DEPARTMENT OF HEALTH AND HUMAN SERVICES

Office of the Secretary

Office of Minority Health; Notice of a Cooperative Agreement With the Association of Asian and Pacific Community Health Organizations

AGENCY: Office of the Secretary, Office of Minority Health, HHS.

ACTION: Notice of a Single Source Cooperative Agreement with the Association of Asian and Pacific Community Health Organizations.

Program Title

Cooperative Agreement to Improve the Health Status of Minority Populations.

OMB Catalog of Federal Domestic Assistance: The Catalog of Federal Domestic Assistance number for this cooperative agreement is 93.004.

Authority: This cooperative agreement is authorized under section 1707 (e)(1) of the Public Health Service Act, as amended.

The Office of Minority Health (OMH), Office of Public Health and Science, announces it is continuing to support a single source umbrella cooperative agreement with the Association of Asian and Pacific Community Health Organizations (AAPCHO) for it to expand and enhance its activities in health promotion, disease prevention, and health service research and the development of models to improve primary care service delivery. This cooperative agreement will continue the broad programmatic framework in which specific projects can be supported by various governmental agencies to carry out the ultimate goal of improving the health status and access to care for minorities and disadvantaged people, especially the underserved.

The OMH expects substantial programmatic involvement in this project with AAPCHO to assist in identifying health-related information for dissemination in the Asian American and Pacific Islander (AAPI) populations, particularly in rural and isolated AAPI communities; linking emerging AAPI communities to technical assistance and resource opportunities available on a national basis; identifying HHS programs that involve clinical trials and research studies to increase the involvement of AAPIs; identifying candidates for advisory panels and developing selection criteria; and arranging consultation with other government and non-government agencies relative to activities that affect policies and programs within AAPI communities.

This cooperative agreement will be continued for an additional 5-year project period with 12-month budget periods. Depending upon the types of projects and availability of funds, it is anticipated that this cooperative agreement will receive approximately $100,000 per year. Continuation awards within the project period will be made on the basis of satisfactory progress and the availability of funds.

During the last 5 years, AAPCHO has successfully demonstrated the ability to work with its organizational membership and health agencies on mutual education, service, and research endeavors. The OMH believes AAPCHO is uniquely qualified to accomplish the purpose of this cooperative agreement and that no organization other than AAPCHO could fulfill the program objectives for the reasons cited below. It has:

• Established a web site which promotes resources and current culturally and linguistically appropriate materials to AAPI health care providers and provides linkages with emerging AAPI communities to appropriate health care services and materials.

• Promoted health care access to rural and isolated AAPI communities, including emerging communities, specifically in the West and MidWest, and has extensive experience in addressing the health needs of these communities.

• Developed the capacity to provide technical assistance to AAPI community groups on organizational and communication infrastructure development and how to access health and health services programs.

• Developed a strategy to raise awareness in AAPI communities for assuring AAPI representation in clinical trials and research activities.

• A network of community health centers that provides a foundation upon which it develops, promotes, and manages health intervention, education, and training programs which are aimed at preventing and reducing morbidity and mortality among AAPIs.

• An extensive knowledge-base of essential health services, health care accessibility issues, and professional development initiatives that deal exclusively with AAPI populations, attributes that are necessary for effective intervention with this population group.

Where To Obtain Additional Information

If you are interested in obtaining additional information regarding this cooperative agreement, contact Ms. Cynthia Amis, Office of Minority Health, 5515 Security Lane, Suite 1000, Rockville, Maryland 20852 or telephone (301) 594-0769.

Dated: September 12, 2000.
Nathan Stinson Jr.,
Deputy Assistant Secretary for Minority Health.

[FR Doc. 00-24549 Filed 9-22-00; 8:45 am]

BILLING CODE 4160-17-P